DEPARTMENT OF DEFENSE

GENERAL SERVICES ADMINISTRATION

NATIONAL AERONAUTICS AND SPACE ADMINISTRATION

[OMB Control No. 9000-0185; Docket No. 2014-0055; Sequence 24]

Submission for OMB Review; Commercial and Government Entity Code

AGENCY: Department of Defense (DOD), General Services Administration (GSA), and National Aeronautics and Space Administration (NASA).

ACTION: Notice of request for a new OMB clearance.

SUMMARY: The Paperwork Reduction Act (44 U.S.C. chapter 35) applies. The proposed rule contains information collection requirements. Accordingly, the Regulatory Secretariat Division (MVCB) has submitted a request for approval of a new information collection requirement concerning Commercial and Government Entity Code (FAR Case 2012-024) to the Office of Management and Budget. A request for comments was published in the Federal Register at 75 FR 23194, on April 18, 2013. One comment was received.

DATES: Submit comments on or before August 8, 2014.

ADDRESSES: Submit comments identified by Information Collection 9000-0185, Commercial and Government Entity Code by any of the following methods:

• Regulations.gov: http://www.regulations.gov. Submit comments via the Federal eRulemaking portal by searching the OMB control number 9000-0185. Select the link “Comment Now” that corresponds with “Information Collection 9000-0185, Commercial and Government Entity Code”. Follow the instructions provided on the screen. Please include your name, company name (if any), and “Information Collection 9000-0185, Commercial and Government Entity Code” on your attached document.

• Fax: 202-501-4067.

• Mail: General Services Administration, Regulatory Secretariat Division (MVCB), 1800 F Street NW., Washington, DC 20405. ATTN: Ms. Flowers/IC 9000-0185, Commercial and Government Entity Code.

• Instructions: Please submit comments only and cite Information Collection 9000-0185, Commercial and Government Entity Code, in all correspondence related to this collection. All comments received will be posted without change to http://www.regulations.gov, including any personal and/or business confidential information provided.

FOR FURTHER INFORMATION CONTACT: Mr. Edward Loeb, Procurement Analyst, Office of Government-wide Acquisition Policy, at telephone 202-501-0650 or via email to Edward.loeb@gsa.gov.

SUPPLEMENTARY INFORMATION:

A. Purpose

DoD, GSA, and NASA published a proposed rule at 78 FR 23194 on April 18, 2013, soliciting public comments on the proposed rule and received one response.

DoD, GSA, and NASA are revising the FAR to require that offerors provide their Commercial and Government Entity (CAGE) codes to contracting officers and that, if owned by another entity, offerors will provide, in a new provision with their representations and certifications, the CAGE codes and names of such entity or entities. For those offerors located in the United States or its outlying areas that register in the System for Award Management (SAM), a CAGE code is assigned as part of the registration process. If SAM registration is not required, the offeror must request and obtain a CAGE code from the Defense Logistics Agency (DLA) Contractor and Government Entity Branch. A CAGE code is not required when a condition described at FAR 4.605(c)(2) applies and the acquisition is funded by an agency other than DoD or NASA. Offerors located outside the United States will obtain an NCAGE from their NATO Codification Bureau or, if not a NATO member or sponsored nation, from the NATO Support Agency (NSPA).

The Federal procurement community strives toward greater measures of transparency and reliability of data, to facilitate achievement of rigorous accountability of procurement dollars, processes, and compliance with regulatory and statutory acquisition requirements, e.g., the Federal Funding and Accountability and Transparency Act of 2006 (Pub. L. 109-282, 31 U.S.C. 6101 note). Increased transparency and accuracy of procurement data broaden the Government's ability to implement fraud detection technologies restricting opportunities for mitigating occurrences of fraud, waste, and abuse of taxpayer dollars.

To further the desired increases in traceability and transparency, this rule uses the unique identification that a CAGE code provides, coupled with vendor representation of ownership and owner CAGE code. The CAGE code is a five-character alpha-numeric identifier used extensively within the Federal Government and will provide for standardization across the Federal Government. This rule will support successful implementation of business tools that provide insight into:

—Federal spending patterns across corporations;

—Traceability in tracking performance issues across corporations;

—Contractor personnel outside the United States; and

—Supply chain traceability and integrity efforts.

B. Analysis of Public Comments

Comment: In response to the notice of proposed rulemaking and the request for comment on the burden estimates, one respondent did question the burden estimates. The respondent indicated that the rule adds additional costs to the process not recognized in the rule. This relates to usability issues with SAM. The respondent indicated that, as a pilot, industry conducted hierarchy assessment and this took well over an hour without the additional revalidations required by SAM. The respondent requested that the FAR Council republish the rule for public comment after clarifying the issues raised.

Response: The FAR Council determined that a revision to the Paperwork Burden is not warranted. Obtaining a CAGE code is already a requirement for an active registration in SAM and for its predecessors the Online Representations and Certifications (ORCA) and the Central Contractor Registration (CCR) database. This final rule applies no new burden in that regard. Burden for registration in SAM was re-assessed as part of the rulemaking in the FAR case (FAR Case 2011-021) that established that requirement. Additionally, this final rule does not require the use of SAM to obtain the CAGE code(s) for the immediate owner or highest-level owner; although registration in SAM could be accomplished to do so for U.S. registrants (as U.S. registrants are assigned a CAGE code upon registration). It is true that it may take some time in larger organizations to update all of the contractor's SAM registrations to include the immediate and highest-level owner CAGE information (if the contractor has hundreds of SAM records and it is updating them centrally and at the same time). However, including the data on an individual registration or renewal basis should not result in any significant additional time.

Annual Reporting Burden

The annual reporting burden to obtain CAGE codes is estimated as follows:

Respondents required to obtain a CAGE code | 1,134.
Number of responses per respondent | 1.
Total annual responses | 1,134.
Preparation hours per response | .25
Subtotal response hours | 284
Respondents required to obtain an NCAGE code | 1,020.
Number of responses per respondent | 1.
Total annual responses | 1,020.
Preparation hours per response | .5
Subtotal response hours | 510.
Total CAGE response burden hours | 794

The annual reporting burden is estimated as follows to respond to ownership provision 52.204-YY requirements:

Respondents | 413,808
Average responses per respondent | 1
Total annual responses | 413,808
Preparation hours per response | .5
Total response burden hours | 206,904

The combined total of the CAGE hours and the ownership provision hours are 207,698 response burden hours.

Obtaining Copies of Proposals: Requesters may obtain a copy of the information collection documents from the General Services Administration, Regulatory Secretariat Division (MVCB), 1800 F Street NW., Washington, DC 20405, telephone 202-501-4755. Please cite OMB Control No. 9000-0185, Commercial and Government Entity Code in all correspondence.

Dated: July 2, 2014.
Karlos Morgan,
Acting Director, Federal Acquisition Policy Division, Office of Government-Wide Acquisition Policy, Office of Acquisition Policy, Office of Government-Wide Policy.

[FR Doc. 2014-16084 Filed 7-8-14; 8:45 am]

BILLING CODE 6820-EP-P